DEPARTMENT OF THE INTERIOR

National Park Service

[NPS-WASO-NAGPRA-18019; PPWOCRADN0-PCU00RP14.R50000]

Notice of Inventory Completion: U.S. Department of the Interior, National Park Service, De Soto National Memorial, Bradenton, FL

AGENCY: National Park Service, Interior.

ACTION: Notice.

SUMMARY: The U.S. Department of the Interior, National Park Service, De Soto National Memorial has completed an inventory of human remains in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to De Soto National Memorial. If no additional requestors come forward, transfer of control of the human remains to the Indian tribes or Native Hawaiian organizations stated in this notice may proceed.

DATES: Representatives of any Indian tribe or Native Hawaiian organization not identified in this notice that wish to request transfer of control of these human remains should submit a written request with information in support of the request to De Soto National Memorial at the address in this notice by May 28, 2015.

ADDRESSES: Jorge Acevedo, Superintendent, De Soto National Memorial, P.O. Box 15390, Bradenton, FL 34280, telephone (941) 791-0458, email jorge_acevedo@nps.gov.

SUPPLEMENTARY INFORMATION: Notice is here given in accordance with the Native American Graves Protection and Repatriation Act (NAGPRA), 25 U.S.C. 3003, of the completion of an inventory of human remains under the control of the U.S. Department of the Interior, National Park Service, De Soto National Memorial, Bradenton, FL. The human remains were removed from unknown sites in Manatee County, FL.

This notice is published as part of the National Park Service's administrative responsibilities under NAGPRA, 25 U.S.C. 3003(d)(3) and 43 CFR 10.11(d). The determinations in this notice are the sole responsibility of the Superintendent, De Soto National Memorial.

Consultation

A detailed assessment of the human remains was made by De Soto National Memorial professional staff in consultation with representatives of the Miccosukee Tribe of Indians and the Seminole Tribe of Florida (previously listed as the Seminole Tribe of Florida (Dania, Big Cypress, Brighton, Hollywood & Tampa Reservations)).

History and Description of the Remains

On an unknown date, human remains representing, at minimum, two individuals were removed from an unknown site in Manatee County, FL, by a park visitor. In 2003, these remains were discovered in the De Soto National Memorial archives. No known individuals were identified. No associated funerary objects are present.

In the 1940s and 1950s, human remains representing, at minimum, three individuals were removed from unknown sites in Manatee County, FL, by a park visitor. The remains were donated to De Soto National Memorial in 1997. No known individuals were identified. No associated funerary objects are present.

Information from the collectors indicates that the remains were probably removed from Shaw's Point site. The Shaw's Point site is a midden containing materials from the Woodland to Mississippian period (circa 1000 B.C.-A.D. 1650).

Determinations Made by De Soto National Memorial

Officials of De Soto National Memorial have determined that:

• Pursuant to 25 U.S.C. 3001(9), the human remains described in this notice are Native American based on archeological context and age.

• Pursuant to 25 U.S.C. 3001(9), the human remains described in this notice represent the physical remains of five individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Miccosukee Tribe of Indians and the Seminole Tribe of Florida (previously listed as the Seminole Tribe of Florida (Dania, Big Cypress, Brighton, Hollywood & Tampa Reservations)).

• Treaties, Acts of Congress, or Executive Orders, indicate that the land from which the Native American human remains were removed is the aboriginal land of the Miccosukee Tribe of Indians and the Seminole Tribe of Florida (previously listed as the Seminole Tribe of Florida (Dania, Big Cypress, Brighton, Hollywood & Tampa Reservations)).

• Pursuant to 43 CFR 10.11(c)(1), the disposition of the human remains may be to the Miccosukee Tribe of Indians and the Seminole Tribe of Florida (previously listed as the Seminole Tribe of Florida (Dania, Big Cypress, Brighton, Hollywood & Tampa Reservations)).

Additional Requestors and Disposition

Representatives of any Indian tribe or Native Hawaiian organization not identified in this notice that wish to request transfer of control of these human remains should submit a written request with information in support of the request to Jorge Acevedo, Superintendent, De Soto National Memorial, P.O. Box 15390, Bradenton, FL 34280, telephone (941) 791-0458, email jorge_acevedo@nps.gov, by May 28, 2015. After that date, if no additional requestors have come forward, transfer of control of the human remains to the Miccosukee Tribe of Indians and the Seminole Tribe of Florida (previously listed as the Seminole Tribe of Florida (Dania, Big Cypress, Brighton, Hollywood & Tampa Reservations)) may proceed.

De Soto National Memorial is responsible for notifying the Miccosukee Tribe of Indians and the Seminole Tribe of Florida (previously listed as the Seminole Tribe of Florida (Dania, Big Cypress, Brighton, Hollywood & Tampa Reservations)) that this notice has been published.

Dated: March 31, 2015.
Mariah Soriano,
Acting Manager, National NAGPRA Program.

[FR Doc. 2015-09931 Filed 4-27-15; 8:45 am]

BILLING CODE 4312-50-P